DEPARTMENT OF TRANSPORTATION

National Highway Traffic Safety Administration

[Docket No. NHTSA-2003-14395, Notice 3]

NHTSA's Activities Under the United Nations Economic Commission for Europe 1998 Global Agreement

AGENCY: National Highway Traffic Safety Administration (NHTSA), DoT.

ACTION: Notice of activities under the 1998 Global Agreement and request for comments.

SUMMARY: NHTSA is publishing this notice to inform the public of the schedule of upcoming meetings of the World Forum for Harmonization of Vehicle Regulations (WP.29) and its working parties of experts for the remainder of calendar year 2006 and the tentative schedule for calendar year 2007. Further, this notice informs the public about the status of activities under the Program of Work of the 1998 Global Agreement and requests comments on various aspects of these activities. Specifically, this notice seeks comment on the recommended Global Technical Regulation (GTR) on motorcycle brake systems that was referred by the Working Party on Brakes and Running Gear (GRRF) to the Executive Committee of the 1998 Global Agreement (AC.3) for a vote at the 140th session of WP.29 in November 2006. Publication of this information is in accordance with NHTSA's Statement of Policy regarding Agency Policy Goals and Public Participation in the Implementation of the 1998 Global Agreement on Global Technical Regulations.

DATES: Written comments may be submitted to this agency and must be received within 30 days of publication of this notice.

ADDRESSES: You may submit your comments in writing to: Docket Management, Room PL-401, 400 Seventh Street, SW., Washington, DC 20590. Alternatively, you may submit your comments electronically by logging onto the Dockets Management System Web site at http://dms.dot.gov. Click on “Help & Information” or “Help/Info” to view instructions for filing your comments electronically. Regardless of how you submit your comments, you should mention the docket number of this document. Note that all comments received will be posted without change to http://dms.dot.gov, including any personal information provided. Please see the Privacy Act heading under Request for Comments.

FOR FURTHER INFORMATION CONTACT: Mr. Ezana Wondimneh, Division Chief, International Policy and Harmonization (NVS-133), National Highway Traffic Safety Administration, 400 Seventh Street, SW., Washington, DC 20590; phone number (202) 366-0846, fax number (202) 493-2290.

SUPPLEMENTARY INFORMATION:

Table of Contents

I. Background

II. List of meetings of WP.29 and its working parties of experts

III. Status of activities under the Program of Work of the 1998 Global Agreement

a. Status of Established GTRs under the 1998 Global Agreement

b. Formal proposals for the development of GTRs submitted by contracting parties based on the Program of Work

c. Status of proposed GTRs under the 1998 Global Agreement

1. Motorcycle Brake Systems

2. Installation of Light and Light-Signaling Devices

3. Safety Glazing

4. Pedestrian Safety

5. Head Restraints

6. Other GTRs

d. Specific Resolutions under the 1998 Agreement

e. Compendium of Candidate GTRs

IV. Request for Comments

V. Privacy Act

I. Background

On August 23, 2000, NHTSA published in the Federal Register (65 FR 51236) a statement of policy regarding the agency's policy goals and public participation in the implementation of the 1998 Global Agreement, indicating that each calendar year the agency would provide a list of scheduled meetings of the World Forum for Harmonization of Vehicle Regulations (WP.29) and the working parties of experts, as well as meetings of the Executive Committee of the 1998 Global Agreement (AC.3). Further, in that policy statement, the agency stated that it would keep the public informed about a program of work under the Agreement (i.e., agreed subjects for which Global Technical Regulations [GTR] should be developed) as well as a list of candidate GTRs that have been formally proposed by a contracting party and referred to a working party of experts, including draft GTRs that have been developed and referred by a working party of experts to AC.3 for establishment under the Agreement.

Through a series of Federal Register notices published between July 2000 and October 2004 (65 FR 44565), (66 FR 4893), (68 FR 5333) (69 FR 60460), the agency notified the public about status of activities under the 1998 Global Agreement and sought comments on various issues and proposals. In the most recent notice (69 FR 60460), the agency discussed the status of activities under the Program of Work for the 1998 Global Agreement, which was formally adopted by WP.29 at its March 2002 Session, made available and sought comment on formal proposals for GTRs submitted by contracting parties as well as recommended GTRs.

II. List of Meetings of WP.29 and Its Working Parties of Experts

The following lists contain meetings of WP.29 and its working parties of experts for the remainder of calendar year 2006 and for calendar year 2007. The meeting dates for 2007 are subject to confirmation by the Inland Transport Committee of the United Nations Economic Commission for Europe.¹ However, the agency does not anticipate any changes to the schedule. In addition, working parties of experts may schedule, if necessary, informal meetings in addition to their regularly scheduled ones in order to address technical matters specific to GTRs under consideration. The formation of these groups, and their timing, are recommended by the sponsor and chair of the group and are agreed to by WP.29 and AC.3. The schedule and place of meetings are made available to interested parties in proposals and periodic reports which are posted on the Web site of WP.29.

¹ The Inland Transport Committee provides a forum for its member Governments for (i) Cooperation and consultation based on the exchange of information and experiences, (ii) the analysis of transport trends and economics and transport policy trends, and (iii) coordinated action designed to achieve an efficient, coherent, balanced and flexible transport system in the ECE region which is based on principles of market economy, pursues the objectives of safety, environmental protection and energy efficiency in transport and takes into account transport developments and policy of member Governments; WP.29 Reports to this Committee.

Schedule of Meetings of WP.29 and Its Working Parties of Experts 2006

October

2-6 Working Party on Lighting and Light Signaling (GRE) (57th session)

17-20 Working Party on General Safety Provisions (GRSG) (91st session)

November

13 Administrative Committee for the Coordination of Work (WP.2/AC.2) (92nd session)

14-17 World Forum for Harmonization of Vehicle Regulations (WP.29) (140th session) and Administrative Committee of the 1958 Agreement (AC.1) (34th session) and Executive Committee of the 1998 Global Agreement (AC.3)(18th session).

December

12-15 Working Party on Passive Safety (GRSP) (40th session)

Provisional Schedule of meetings of WP.29 and its working parties of experts 2007

January

9-12 Working Party on Pollution and Energy (GRPE) (53rd session)

Feb

5-9 Working Party on Brakes and Running Gear (GRRF) (61st session)

March

12 Administrative Committee for the Coordination of Work (WP.29/AC.2) (93rd session)

13-16 World Forum for Harmonization of Vehicle Regulations (WP.29) (141st session) and Administrative Committee of the 1958 Agreement (AC.1) (35th session) and Executive Committee of the 1998 Global Agreement (AC.3) (19th session).

26-30 Working Party on Lighting and Light Signaling (GRE) (58th session)

April

30-4 (May) Working Party on General Safety Provisions (GRSG) (92nd session)

May

7-11 Working Party on Passive Safety (GRSP) (41st session)

June

5-8 Working Party on Pollution and Energy (GRPE) (54th session)

25 Administrative Committee for the Coordination of Work (WP.29/AC.2) (94th session)

26-29 World Forum for Harmonization of Vehicle Regulations (WP.29) (142nd session) and Administrative Committee of the 1958 Agreement (AC.1) (36th session) and Executive Committee of the 1998 Global Agreement (AC.3) (20th session).

September

18-21 Working Party on Brakes and Running Gear (GRRF) (62nd session)

October

1-4 Working Party on Lighting and Light Signaling (GRE) (59th session)

23-26 Working Party on General Safety Provisions (GRSG) (93rd session)

November

12 Administrative Committee for the Coordination of Work (WP.2/AC.2) (95th session)

13-16 World Forum for Harmonization of Vehicle Regulations (WP.29) (143rd session) and Administrative Committee of the 1958 Agreement (AC.1) (37th session) and Executive Committee of the 1998 Global Agreement (AC.3) (21st session).

December

11-14 Working Party on Passive Safety (GRSP) (42nd session)

III. Status of Activities Under the Program of Work of the 1998 Global Agreement

In March 2001, NHTSA submitted to WP.29 and AC.3 its final recommendations for the first motor vehicle safety GTRs to be considered for establishment under that Agreement. The Administrative Committee for the Coordination of Work of WP.29 (AC.2) reviewed the recommendations made by various contracting parties, including the United States, Canada, the European Union, Japan, and Russia, as well as those made by other interested parties and reached agreement on a Program of Work, taking into account the workload of the working parties of experts under WP.29. AC.2 then submitted the Program of Work to AC.3. AC.3 approved the Program of Work and requested that contracting parties volunteer to sponsor each listed regulation by submitting a formal proposal as required by Article 6 of the 1998 Global Agreement. WP.29 formally adopted the Program of Work at its session in March 2002. Subsequently, several contracting parties stepped forward to sponsor each of the items in the Program of Work. Progress has been made in several areas, and the Program of Work has been updated accordingly. The first GTR, on door locks and door retention components, and the second GTR, on motor cycle emission measurement procedures ², have been established. The status of hydrogen fuel cell vehicles as well as tire performance has been upgraded from an area for an exchange of information to an area for active development as a GTR. Information exchange in the area of field of vision has been replaced with information exchange on electronic stability control (ESC). Due to difficulties in achieving consensus to establish a GTR on Lower Anchorages and Tethers for Child Safety Seats, it was decided at the March 2006 WP.29 session to remove the item from the Program of Work.

² This GTR will not be discussed in detail in this notice as the Environmental Protection Agency is the lead agency on this issue.

The following table contains an updated list of subjects and sponsoring contracting parties. In addition to the list below, the contracting parties will continue to exchange information in the following areas: Electronic stability control (GRRF); side-impact and vehicle compatibility (GRSP); worldwide light duty vehicle test procedures (GRPE); and intelligent vehicle systems (WP.29).

Program of Work of the 1998 Global Agreement
Working Party of Experts | Subject | Sponsoring Contracting Party | Chair
GRRF | Motorcycle Brake Systems | Canada | Canada.
| Passenger Vehicle Brakes | U.K. and Japan | U.K.
| Tire Performance | France | U.K.
GRE | Installation of Lighting and Light-Signaling Devices | Canada | Canada
GRSG | Safety Glazing | Germany | Germany
| Controls and Displays | Canada | Canada
GRSP | Pedestrian Safety | European Commission | Japan
| Head Restraints | U.S.A. | U.S.A.
| Hydrogen Fuel Cell Vehicle Safety Sub-Group | Germany, Japan and U.S.A. | TBD
GRPE | Worldwide Heavy-Duty Certification Procedure | European Commission | European Commission
| Worldwide Motorcycle Emission Test Cycle | Germany | Germany
| Heavy-Duty On-Board Diagnostics | U.S.A. | Japan
| Off-Cycle Emissions | U.S.A. | U.S.A.
| Non-Road Mobile Machinery | European Commission | European Commission
| Hydrogen Fuel Cell Vehicle Environmental Sub-Group | Germany, Japan and U.S.A. | European Commission

a. Status of Established GTRs Under the 1998 Global Agreement

At the November 2004 WP.29 session, the Door Lock and Door Retention Components GTR was adopted as the first GTR under the 1998 Global Agreement. Per the 1998 Agreement, the U.S. is obligated to initiate the process for adopting the provisions of GTR-1. On December 15, 2004, the U.S. issued a notice of proposed rulemaking (NPRM) closely based on GTR1, which satisfied this obligation (69 FR 75020; Docket No. NHTSA-2004-19840; NPRM).

NHTSA has considered the comments submitted and is in the process of concluding the Final Rule. In the Final Rule the U.S. will explain why it agrees or disagrees with the substantive comments it received and describes the changes, if any, it made to the rule in response to the comments with which it agrees.

If public comments on the NPRM lead the agency to adopt a final rule that differs in any significant way from the GTR, the U.S. will consider submitting a proposal to make conforming amendments to the GTR.

b. Formal Proposals for the Development of GTRs Submitted by Contracting Parties Based on Program of Work

As of the publication of the October 8, 2004, Federal Register Notice (69 FR 60490), and pursuant to Article 6 of the 1998 Global Agreement, which sets forth the process and conditions under which a contracting party may make proposals for the establishment of GTRs, the following proposals have been made by contracting parties and referred to the proper working party of experts. These proposals and supporting documentations can be found in the docket for this notice. They can also be found on the UN/ECE Website ³ or under the respective working party of expert link.⁴

³ http://www.unece.org/trans/main/wp29/wp29wgs/wp29gen/wp29glob.html.

⁴ http://www.unece.org/trans/main/welcwp29.htm.

• Exhaust emissions from non-road mobile machinery (NRMM) (Sponsored by the EC), GTR to be prepared by GRPE. (UN/ECE document TRANS/WP.29/AC.3/14)

• Head Restraints (Sponsored by U.S.A), GTR to be prepared by GRSP. (UN/ECE document TRANS/WP.29/AC.3/13)

• Heavy-duty off-cycle emissions vehicles (Sponsored by U.S.A.), GTR to be prepared by GRPE. (UN/ECE document TRANS/WP.29/AC.3/12)

• Passenger vehicle brake systems (Sponsored by Japan and United Kingdom), GTR to be prepared by GRRF. (UN/ECE document TRANS/WP.29/AC.3/10)

• Passenger vehicle tires (Sponsored by France), GTR to be prepared by GRRF. (UNECE document listing pending)

c. Status of proposed GTRs under the 1998 Global Agreement

1. Motorcycle Brake Systems

Work on this GTR began following its sponsorship by Canada at the 52nd session of GRRF, in September 2002. Canada initiated and chaired six meetings of the informal working group. The meetings were open to all interested parties. The attendees for the informal group included representatives from: Canada, USA, Italy, the UK, Japan, India, IMMA (International Motorcycle Manufacturers Association), FEMA (Federation of European Motorcyclists' Associations), AMA (American Motorcyclist Association), and JAMA (Japan Automobile Manufacturers Association, Inc.).

Early work to research and compare various performance requirements found in several existing national motorcycle brake regulations was conducted independently by the governments and the motorcycle industry (UNECE Regulation No. 78, the United States Federal Motor Vehicle Safety Standard, FMVSS No. 122 and the Japanese Safety Standard JSS 12-61). The subsequent reports, along with proposed provisions for the GTR, were presented at the 51st, 52nd, and 53rd sessions of GRRF. Despite using different methodologies, the results were found to be very similar between the three reports. Based on this and other research subsequently completed, a preliminary outline of the performance requirements for the GTR was developed

The informal working group reviewed and compared the requirements in each national regulation during the development of the GTR. These regulations, in conjunction with the research and analysis, were used to develop a draft table of regulatory requirements. This draft table was continually updated as technical issues were raised, discussed and resolved. The table was presented and discussed at the 57th session of GRRF in February 2005, and discussed further at the 58th session of GRRF in September 2005 in conjunction with a first draft of the proposed GTR (See TRANS/WP.29/GRRF/2005/18 and TRANS/WP.29/GRRF/2005/18/Add.1).⁵

⁵ http://www.unece.org/trans/main/wp29/wp29wgs/wp29grrf/grrfage.html.

Where national regulations or standards address the same subject, e.g. dry stop or heat fade performance requirements, the informal group reviewed comparative data on the relative stringency of the requirements from the research and studies and included the most severe options. In many cases, individual members of the informal group were tasked with completing additional testing to confirm or refine the testing and performance requirements. Certain tests, such as a wet brake test, were discussed on the basis of the original rationales and the appropriateness of the tests to modern conditions and technologies. In each of these steps, specific technical issues were raised, discussed, and resolved. A full discussion of each of these issues and the technical rationale is provided in the latest draft document, which can be accessed on the WP.29 website ⁶ and in the docket of this Notice.

⁶ http://www.unece.org/trans/main/wp29/wp29wgs/wp29grrf/grrfspecial0606.html.

At a special session of GRRF, held June 19, 2006, the draft GTR on motorcycle brake systems was accepted by all the Contracting Parties to the 1998 Agreement that were present and was recommended for adoption by WP.29/AC.3 at the upcoming 140th session scheduled for November 2006. In summary, the GTR would provide several benefits that would ultimately benefit motorcycle users and other stakeholders. In addition to providing clear and objective test procedures and requirements that can be consistently and objectively followed; the the GTR also addresses recently developed technologies, such as combined braking systems (CBS) and antilock brake systems (ABS). In addition, since the GTR draws from the best of existing national regulations from around the world, the U.S. would benefit from the GTR in various ways. Among these are improvements in testing procedures such as an improved wet brake test that simulates in service conditions by spraying water onto the disc rather than immersing the disc in water; new tests for ABS systems; and a specified burnishing procedure that is more objective.

Having worked closely with the other contracting parties on the development of this GTR, NHTSA intends to vote positively for it at the November 2006 session of WP.29. If established as a GTR under the 1998 Agreement, this regulation will be the third adopted under the 1998 Agreement. NHTSA welcomes any comments from the public regarding this GTR and NHTSA's decision to vote positively for its establishment.

2. Installation of Light and Light-Signaling Devices

In March 2003, at the 129th Session of WP.29, a formal proposal to develop a GTR on the installation of light and light-signaling devices for vehicles other than motorcycles was adopted. (See TRANS/WP.29/AC.3/4).⁷

⁷ http://www.unece.org/trans/doc/2003/wp29/TRANS-WP29-AC3-04e.doc.

A draft GTR containing provisions for the installation of 22 vehicle lighting and light-signalling devices was subsequently developed by GRE over the course of nine formal and informal meetings. However, in a number of areas, the informal working group encountered situations where established safety provisions applied by some Contracting Parties differed from other equally well-established provisions applied by others. For those instances, GRE attempted to reach a science and data based solution by considering, among other things, which provisions were more effective or more cost beneficial. GRE could not reach consensus on several requirements because the necessary data do not exist to justify selecting one or the other.

In November 2005, the chairman of the informal working group turned to the Executive Committee for the 1998 Global Agreement (AC.3) for a solution forward. AC.3 instructed GRE to remove from the draft GTR all portions that specified the colour or presence of the various lighting devices covered by the regulation, leaving those choices to each Contracting Party to make, as the GTR is adopted into their various national jurisdictions. However, at the subsequent informal meeting in April 2006, the informal working group agreed that the presence of lighting devices is essential for the GTR and decided to give it a final attempt to work on a solution. Since then, several comments have been received from various stakeholders, including the auto industry, and are currently being considered.

3. Safety Glazing

At the 132nd session of WP.29 in March 2004 the formal proposal to develop a GTR on safety glazing was adopted (TRANS/WP.29/AC.3/9), with a modification to restrict the scope of the GTR to glass safety glazing. An informal working group was established under the Chairmanship of Germany, the sponsor of the GTR. At the 137th session of WP.29 in November 2005, AC.3 further agreed that the GTR would not include installation provisions and that the informal working group could consider possible approaches to including markings in the GTR.

After six meetings of the informal group, a draft GTR was submitted to GRSG for the April 2005 session (TRANS/WP.29/GRSG/2005/9).⁸ The first report was submitted to WP.29 for its 136th session in June 2005 (TRANS/WP.29/2005/49).⁹ Based on comments from the United States and Canada concerning the format of the draft, the proposal was returned to the informal group for further consideration. Since the April 2005 GRSG session, the informal group has met four times.

⁸ http://www.unece.org/trans/main/wp29/wp29wgs/wp29grsg/grsgage.html.

⁹ http://www.unece.org/trans/main/wp29/wp29wgs/wp29gen/wp29age.html.

The draft GTR specifies performance requirements for various types of glazing (i.e., laminated glass) intended for installation in Category 1 and 2 vehicles as defined in Special Resolution No. 1.¹⁰ The GTR includes requirements that apply to glazing as an item of equipment, and does not include requirements for vehicles. Performance requirements have some differences depending on whether a material is for a windscreen or, as an example, door glass.

¹⁰ A detailed explanation of Special Resolution No. 1 is set forth in Section III. D., below.

The draft GTR is based in large part upon ECE Regulation 43. One significant difference between the draft GTR and the ECE regulation is that the minimum light transmittance level for glazing requisite for the driver's forward field of vision is 70%, as currently specified in the U.S. standard rather than 75%, as currently specified in the ECE standard. However, the test procedure is based on the ECE test procedure, which specifies testing in defined zones based on the eye position of the driver and with the glazing at the intended installation angle. This test procedure is considered more realistic than the current U.S. procedure that tests the glazing at a normal angle to the surface.

Another difference is the drop height for the small (227 g) ball test for uniformly toughened glass panes. The ECE regulation had specified different drop heights depending on the thickness of the glazing. Based upon some test results provided by Japan which determine that the force from a drop height of 2.0 m replicated the force of a typical object that impacts a pane, it was decided that a single drop height of 2.0 m could be specified.

The informal working group will be meeting again prior to the October 2006 session of GRSG. A new draft of the GTR may be provided to GRSG at that session however, the draft GTR will not be formally submitted to GRSG before the April 2007 session. Therefore, the earliest it could be considered for adoption by WP.29/AC.3 is at the November 2007 session.

4. Pedestrian Safety

WP.29 decided to begin work on pedestrian safety in May 2002, by establishing an informal working group under the GRSP. The formal proposal to develop a GTR (TRANS/WP.29/AC.3/7) ¹¹ was submitted and adopted by the AC.3 at its tenth session, in March 2004. The terms of reference of the group can be found on the UNECE website (See INF GR/PS/2).¹²

¹¹ http://www.unece.org/trans/main/wp29/wp29wgs/wp29gen/wp29glob_proposal.html.

¹² http://www.unece.org/trans/main/wp29/wp29wgs/wp29grsp/pedestrian_1.html.

The European Commission (EC) is the sponsor of the GTR. The group has held ten meetings, which were attended by representatives of: The Netherlands, France, Germany, Canada, EC, Spain, Japan, USA, Korea, Italy, Turkey, the European Enhanced Vehicle-Safety Committee (EEVC), Consumers International (CI), the European Association of Automotive Suppliers (CLEPA) and the International Organization of Motor Vehicle Manufacturers (OICA). The meetings were chaired by Japan.

This GTR would improve pedestrian safety by requiring vehicle hoods and bumpers to absorb energy more efficiently when impacted in a 40 kilometer per hour (km/h) vehicle-to-pedestrian impact, which accounts for more than 75 percent of the pedestrian injured accidents (AIS 1+) reported by International Harmonized Research Activities (IHRA)/Pedestrian Safety working group (IHRA/PS). It consists of two sets of performance criteria applying to: (a) The hood top and fenders; and (b) the front bumper. Test procedures have been developed for each region using sub-system impacts for adult and child head protection and adult leg protection.

The head impact requirements will ensure that hood tops and fenders will provide head protection when struck by a pedestrian. The hood top and fenders would be impacted with a child headform and an adult headform at 35 km/h. The Head Injury Criterion (HIC) must not exceed 1,000 over one half of a child headform test area and must not exceed 1,000 over two third of a combined child and adult headform test areas. The HIC for the remaining areas must not exceed 1,700 for both headforms.

The leg protection requirements for the front bumper would require bumpers to subject pedestrians to lower impact forces. This GTR specifies that the vehicle bumper is struck at 40 km/h with a legform that simulates the impact response of an adult's leg. Vehicles with a lower bumper height of less than 425 millimeter (mm) are tested with a lower legform, while vehicles with a lower bumper height of more than 500 mm are tested with an upper legform test device. Vehicles with a lower bumper height between 425 mm and 500 mm are tested with either legform chosen by the manufacturer. In the lower legform to bumper test, vehicles must meet limits on lateral knee bending angle, knee shearing displacement, and lateral tibia acceleration. In the upper legform to bumper test, limits are placed on the instantaneous sum of the impact forces with respect to time and the bending moment on the test.

At the May 2006 GRSP meeting, the working group presented a draft version of the Pedestrian GTR for review by all GRSP experts.¹³ Due to unresolved issues with the applicability of the regulation and differences between it and the European Directive on Pedestrian Safety, the GRSP recommended the GTR remain under the working group pending review at the December 2006 GRSP session. NHTSA is currently performing testing and analyses to aid in the resolution of determining the vehicle applicability of the GTR, including preliminary cost/benefit analyses. NHTSA expects to complete these analyses by the December 2006 GRSP session.

¹³ (http://www.unece.org/trans/doc/2006/wp29grsp/ECE-TRANS-WP29-GRSP-2006-02e.doc).

5. Head Restraints

During the November 2004 meeting of WP.29 and the Executive Committee of the 1998 Global Agreement, NHTSA formalized its sponsorship of the regulation on Head Restraints as identified in the Program of Work of the 1998 Global Agreement. In the October 8, 2004, (69 FR 60460) notice, NHTSA sought comments on a proposal that formalizes the U.S. sponsorship of a GTR on head restraints. In response to the agency's request for comment on the proposal, NHTSA received no comments. The proposal was formally presented by the U.S. and adopted by the Executive Committee and referred to the Working Party of Experts (GRSP) at the March 2005 Session of WP.29. In February 2005, the GRSP formed an informal working group, chaired by the US, to develop a GTR. The working group has met seven times with the following contracting parties and representatives participating: Netherlands, France, Canada, Japan, Germany, Spain, Korea, the UK, USA, the EC, CLEPA and OICA.

In developing and drafting the new GTR, the working group is combining elements from UNECE Regulations Nos. 17, 25, and newly upgraded United States Federal Motor Vehicle Safety Standard (FMVSS) 202, as well as considering proposals for requirements not contained in the previously mentioned regulations. The working group is making good progress on exchanging data and has started drafting the regulatory text. The major outstanding issues are:

• Applicability: Applying the GTR to vehicles up to 4,500 kg or limiting it to 3,500 kg.

• Backset: There is general consensus that it should be regulated, but the maximum backset limit is still being discussed.

• Measuring procedures for height and backset: There is continued discussion on using the H-point or R-point as the point of reference.

• Dynamic Test: There is consensus to incorporate the U.S. dynamic test established in the 202 Final Rule, but there remains discussion on the injury criteria and dummy.

The working group has submitted two Progress Reports on the status of this GTR. They can be found in the docket for this notice.

6. Other GTRs

The GRRF began work to develop a GTR for light vehicle tires in September 2006, which was scheduled following approval by WP.29/AC.3 at the June 2006 session. For this GTR, WP.29/AC.3 provided a working framework by outlining each of its major elements prior to the beginning of technical development. This approach was taken by WP.29/AC.3 because of lessons learned from past GTRs, where much of the technical development was encumbered by policy considerations being undertaken by technical experts at the working group level. By settling many of the policy decisions early, it is expected that the technical development will progress smoothly and in the least amount of time possible. France is the technical sponsor and the UK will be chairing the informal working group meetings.

The GTR on passenger vehicle brakes was placed on hold until common issues identified with the motorcycle GTR are resolved. The decision to focus on resolving the issues under the motorcycle GTR before proceeding with substantially similar issues in the passenger car GTR was made by AC.3 at its November 2005 session.

The GRSG has developed many of the criteria for the location, illumination and position of the controls and displays for motor vehicles. Issues regarding the use of certain symbols remain unresolved. Comments received in response to a NHTSA NPRM has led the group to reflect on its previous work and to further investigate some of the symbols originally proposed by this group and their ability to be recognized. The Alliance of Automobile Manufacturers has agreed to conduct a study to evaluate the symbols and determine which symbols have appropriate levels of recognition with the U.S. public as a basis for further development of the table in the GTR. Phase 1 of the study has been completed and a presentation was given to WP.29 in November 2005. Based on this phase, it was agreed to postpone further work on the GTR until a second phase of testing some symbols could be conducted. The second phase has recently been completed and preliminary information was shared at the June 2006 session of WP.29. However, review of this phase may not be completed in time for discussion at GRSG in October 2006, in which case it would be discussed in April 2007.

At its 136th Session, WP.29/AC agreed to a proposal from Germany, Japan and United States regarding how best to manage the development process of a GTR for hydrogen fuel cell vehicles. Under the agreed process, once AC.3 develops and approves a plan for the development of the GTR, two subgroups will be formed to address its safety and environment aspects. The safety subgroup will report to GRSP and the environmental subgroup to GRPE. Each subgroup will have a chair. In order to ensure communication between the subgroups and continuous engagement with WP.29 and AC.3, a project manager will be assigned to coordinate and manage the various aspects of the work ensuring that the agreed plan is implemented properly and that milestones and timelines are set and met. The co-sponsors are in the process of developing an action plan outlining the areas that the subgroup on safety and the environment should be considering in developing the GTR.

d. Special Resolutions Under the 1998 Global Agreement

At the one-hundred-and-twentieth session of WP.29, the Government of Japan, through document TRANS/WP.29/2000/39, presented a proposal concerning the necessity of establishing common definitions to facilitate the formulation of future global technical regulations (gtrs), selecting vehicle category, vehicle weight, and vehicle dimension as candidate items requiring a common definition. The necessity of common definitions was unanimously recognized at the WP.29 session and, in October 2000, an informal group was formed under the Working Party on General Safety Provisions (GRSG) and Japan volunteered to chair the effort.

As originally drafted, this proposal was expected to be a GTR. However, it was noted that the document did not contain performance requirements as required by Article 4 of the 1998 Agreement, and as such did not meet the criteria for a GTR. Using its authority under Article 3 of the 1998 Agreement to “fulfil such other functions as may be appropriate,” the Executive Committee decided that this proposal would become Special Resolution No. 1 (S.R. 1). Because S.R. 1 does not contain performance requirements, it also does not trigger the obligations of Article 7 of the 1998 Agreement requiring Contracting Parties to initiate procedures to adopt GTRs. While GTRs must be drafted in accordance with S.R. 1, Contracting Parties are not required to use this document when drafting regulations in their own country.

S.R. 1 applies to all wheeled vehicles, equipment and parts falling within the scope of the Agreement Concerning the Establishing of Global Technical Regulation for Wheeled Vehicles, Equipment and Parts, which can be fitted and/or be used on Wheeled Vehicles. Generally, vehicles are categorized as either passenger vehicles (Category 1 vehicles), commercial vehicles (Category 2 vehicles), or 2- or 3-wheeled vehicles (Category 3 vehicles). S.R. 1 also includes definitions of masses and dimensions. S.R. 1 was adopted at the June 2005 session of WP.29 and can be found at TRANS/WP.29/1045.

e. Compendium of Candidate GTRs

Article 5 of the 1998 Agreement provides for the creation of a compendium of candidate technical regulations of the Contracting Parties. NHTSA has submitted a request for six Federal Motor Vehicle Safety Standards (FMVSS) to be included in this Compendium. These FMVSS have all been listed in the Compendium after an affirmative vote of the Executive Committee. The FMVSS listed in the Compendium are:

• FMVSS 108—Lamps, Reflective Devices, and Associated Equipment

• FMVSS 135—Light Vehicle Brake Systems

• FMVSS 139—New Pneumatic Radial Tires for Light Vehicles

• FMVSS 202—Head Restraints

• FMVSS 205—Glazing Materials

• FMVSS 213—Child Restraint Systems

To facilitate the review and consideration of these FMVSS by other Contracting Parties, NHTSA is arranging translations of these documents. To date, all of the FMVSS in the Compendium are available in Chinese and French. All except FMVSS 202 are available in Arabic, Russian and Spanish. If you would like a translation, please contact Mr. Wondimneh as noted in the FOR FURTHER INFORMATION CONTACT section.

IV. Request for Comments

The agency invites public comments on the formal proposals for the development of GTRs submitted by contracting parties and the work to develop each of the GTRs already ongoing. In particular, the agency seeks comments on the motorcycle brake systems GTR, which is scheduled to be established as a GTR under the 1998 Agreement by a consensus vote at the November 2006 session of WP.29.

V. Privacy Act

Please note that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

Issued on October 3, 2006.
Stephen R. Kratzke,
Associate Administrator for Rulemaking.

[FR Doc. E6-16681 Filed 10-6-06; 8:45 am]

BILLING CODE 4910-59-P